DEPARTMENT OF TRANSPORTATION

Federal Transit Administration

Intent To Prepare an Environmental Impact Statement for the South Bay Metro Green Line Extension Transit Corridor, Southwestern Portion of Los Angeles County, CA

AGENCY: Federal Transit Administration, DOT.

ACTION: Notice of Intent to Prepare an Environmental Impact Statement.

SUMMARY: The Federal Transit Administration (FTA) and the Los Angeles County Metropolitan Transportation Authority (LACMTA) intend to prepare an Environmental Impact Statement (EIS) for proposed transit improvements in the South Bay Metro Green Line Extension Transit Corridor. LACMTA operates the Metro transit system in Los Angeles County. The proposed project would improve mobility in southwestern Los Angeles County by introducing high-frequency transit service options; enhance the regional transit network by interconnecting existing and planned rapid transit lines such as the proposed Crenshaw/LAX Transit Corridor and the Los Angeles World Airports (LAWA) planned People Mover; provide an alternative mode of transportation for commuters who currently use the congested I-405 corridor; improve transit accessibility for residents and employees who live and/or work along the corridor; and encourage a mode shift to transit, reducing air pollution and Greenhouse Gas emissions.

The EIS will be prepared in accordance with the requirements of the National Environmental Policy Act (NEPA) and its implementing regulations. The EIS process will evaluate alternatives recommended for further study as a result of the planning Alternatives Analysis approved by the LACMTA Board on December 10, 2009 and available on the LACMTA Web site (http://www.metro.net/southbayextension). Pursuant to 23 CFR 771.123(j), at the conclusion of the Draft Environmental Impact Statement (DEIS) circulation period, LACMTA will prepare a report identifying the locally preferred alternative (LPA). Prior to commencement of a Final EIS, the LPA will be adopted by the LACMTA Board and included in the Metropolitan Transportation Plan identifying sufficient Federal and other funding for the project, in order to be evaluated under the NEPA process. LACMTA does not currently anticipate applying for 43 U.S.C. 5309 New Starts funding.

LACMTA will also use the EIS document to comply with the California Environmental Quality Act (CEQA), which requires an Environmental Impact Report (EIR). The purpose of this notice is to alert interested parties regarding the intent to prepare the EIS, to provide information on the nature of the proposed project and possible alternatives, to invite public participation in the EIS process, (including providing comments on the scope of the DEIS, to announce that public scoping meetings will be conducted, and to identify participating and coordinating agency contacts.

DATES: Written comments on the scope of the EIS, including the project's purpose and need, the alternatives to be considered, the impacts to be evaluated, and the methodologies to be used in the evaluations should be sent to LACMTA on or before May 28, 2010 at the address below. See ADDRESSES below for the address to which written public comments may be sent. Public scoping meetings to accept comments on the scope of the EIS/EIR will be held on the following dates:

• Monday, April 26, 2010; 6 to 8 p.m. at the Nakano Theater, 3330 Civic Center Drive, Torrance, CA.

• Wednesday, April 28, 2010; 6 to 8 p.m. at the Perry Park Senior Center, 2308 Rockefeller Lane, Redondo Beach, CA.

• Saturday, May 1, 2010; 10 a.m. to 12 p.m. at the Lawndale City Hall, 14717 Burin Avenue, Lawndale, CA.

• Wednesday, May 5, 2010; 6 to 8 p.m. at the Automobile Driving Museum, 610 Lairport Street, El Segundo, CA.

The project's purpose and need, and the description of alternatives will be presented at these meetings. The buildings used for the scoping meetings are accessible to persons with disabilities. Any individual who requires special assistance, such as a sign language interpreter, to participate in a scoping meeting should contact Ms. Devon Cichoski, Community Relations Manager, LACMTA, at (213) 922-6446, or cichoskid@metro.net.

Scoping materials and the Alternatives Analysis will be available at the meetings and are available on the LACMTA Web site (http://www.metro.net/southbayextension). Hard copies of the scoping materials may also be obtained from Ms. Devon Cichoski, Community Relations Manager, LACMTA, at (213) 922-6446, or cichoskid@metro.net. An interagency scoping meeting will be held on Tuesday, May 4, 2010, at 10 a.m. at LACMTA, in the Gateway Plaza Room, 3rd Floor, One Gateway Plaza, Los Angeles, CA 90012. Representatives of Native American tribal governments and of all federal, state, regional and local agencies that may have an interest in any aspect of the project will be invited to be participating or cooperating agencies, as appropriate.

ADDRESSES: Comments will be accepted at the public scoping meetings or they may be sent to Mr. Randy Lamm, Project Manager, Los Angeles County Metropolitan Transportation Authority, One Gateway Plaza, Mail Stop: 99-22-3, Los Angeles, CA 90012, or via e-mail at LammR@metro.net. The locations of the public scoping meetings are given above under DATES.

FOR FURTHER INFORMATION CONTACT: Mr. Ray Tellis, Team Leader, Los Angeles Metropolitan Office, Federal Transit Administration, 888 South Figueroa Street, Suite 1850, Los Angeles, CA 90017, phone (213) 202-3950, e-mail ray.tellis@dot.gov.

SUPPLEMENTARY INFORMATION:

Scoping

Scoping is the process of determining the scope, focus, and content of an EIS. FTA and LACMTA invite all interested individuals and organizations, public agencies, and Native American Tribes to comment on the scope of the DEIS, including the project's purpose and need, the alternatives to be studied, the impacts to be evaluated, and the evaluation methods to be used. Comments should focus on: alternatives that may be less costly or have less environmental or community impacts while achieving similar transportation objectives, and the identification of any significant social, economic, or environmental issues relating to the alternatives.

NEPA “scoping” has specific and fairly limited objectives, one of which is to identify the significant issues associated with alternatives that will be examined in detail in the document, while simultaneously limiting consideration and development of issues that are not truly significant. It is in the NEPA scoping process that potentially significant environmental impacts—those that give rise to the need to prepare an EIS—should be identified; impacts that are deemed not to be significant need not be developed extensively in the context of the impact statement, thereby keeping the statement focused on impacts of consequence. Transit projects may also generate environmental benefits; these should be highlighted as well—the impact statement process should draw attention to positive impacts, not just negative impacts.

Once the scope of the environmental study, including significant environmental issues to be addressed, is settled, an annotated outline of the document will be prepared and shared with interested agencies and the public. The outline serves at least three worthy purposes, including (1) Documenting the results of the scoping process; (2) contributing to the transparency of the process; and (3) providing a clear roadmap for concise development of the environmental document.

In the interest of producing a readable and user-friendly public document, and pursuant to 40 CFR 1502.10, the EIS shall be limited to 250 pages exclusive of any 4(f) and/or 6(f) evaluation. The EIS should emphasize graphics and virtual visual simulations over technical jargon, and technical appendices shall be included in a separate volume.

Project Initiation

The FTA and LACMTA will prepare an EIS/EIR for the South Bay Metro Green Line Extension Transit Corridor Project pursuant to 23 U.S.C. 139 and the California Environmental Quality Act (CEQA). LACMTA is serving as the local lead agency for purposes of CEQA environmental clearance, and FTA is serving as the Federal lead agency for purposes of National Environmental Policy Act (NEPA) environmental clearance. This notice shall alert interested parties to the preparation of the EIS/EIR, describe the alternatives under consideration, invite public participation in the EIS/EIR process, and announce the public scoping meetings. FTA and LACMTA will invite interested Federal, State, Tribal, regional and local government agencies to be participating agencies under the provisions of section 6002 of SAFETEA-LU.

Purpose and Need for the Project

The purpose of this project is to improve public transit service and mobility in southwestern Los Angeles County by providing reliable, high-frequency transit service along the South Bay Metro Green Line Extension Transit Corridor. In particular, the proposed project will improve mobility between the Los Angeles International Airport (LAX) area and the South Bay. The proposed project is included in the financially constrained element of the LACMTA 2009 Long Range Transportation Plan. Various transit improvements were explored and opportunities identified in other studies such as the Route Refinement Study Coastal Corridor Rail Transit Project South Segment (1990), and the South Bay Transportation Study (1991), which are available for review at the LACMTA Transportation Library, 15th Floor, One Gateway Plaza, Los Angeles, CA 90012. Two other studies: the South Bay Cities Railroad Study BNSF Harbor Subdivision (2002) and the Metro Harbor Subdivision Transit Corridor Alternatives Analysis Report (2009) are available for review on the LACMTA Web site (http://www.metro.net/southbayextension).

The South Bay Metro Green Line Extension Transit Corridor is one of the many transit and highway projects to receive local Measure R funding. Additional considerations supporting the project's need include: (1) Significant concentration of activity centers and destinations throughout the project area, such as LAX, the employment/office corridor in El Segundo, the Redondo Beach South Bay Galleria, and Central Torrance's concentration of commercial and residential uses, which have a high volume of commuter activity and attract residents from within and outside of the study area; (2) the expected area population and employment growth; (3) increasing traffic congestion on the highway and arterial network throughout the project area; (4) transit-supportive General Plans in the Cities of Los Angeles, El Segundo, Lawndale, Redondo Beach, Torrance, and portions of Unincorporated Los Angeles County; (5) significant transit dependent population along the corridor; and (6) increasing travel demand that has resulted in major mobility restrictions during both peak and off-peak hours for study area residents and employees.

Project Location and Environmental Setting

The proposed project is located within the Harbor Subdivision Railroad Right-of-Way (ROW). The project area follows a North-South alignment, just west of the I-405, along the Harbor Subdivision ROW for approximately 9 miles from Century Boulevard in the north to the intersection with Crenshaw Boulevard in the south. The project area is in southwestern Los Angeles County and includes portions of nine jurisdictions: the Cities of Inglewood, Los Angeles, El Segundo, Hawthorne, Manhattan Beach, Lawndale, Redondo Beach and Torrance, as well as the Lennox and Del Aire areas of unincorporated Los Angeles County. A variety of land uses exist within the study area, including single- and multi-family residential neighborhoods, office, commercial and warehousing districts, and industrial areas including oil fields and refineries. LAX lies to the west of the northern portion of the project area. Other existing or planned transportation facilities in the project area include: LAX People Mover to be constructed by LAWA, I-405 Freeway, planned Crenshaw/LAX Transit Corridor, Metro Green Line, proposed South Bay Regional Intermodal Transit Center at 1521 Kingsdale Avenue in the City of Redondo Beach and the proposed South Bay Regional Intermodal Transit Center—Torrance Hub at 465 Crenshaw Boulevard in the City of Torrance.

The Light Rail Transit (LRT) system alternative would begin at the current terminus of the Metro Green Line at the Redondo Beach Station and continue south along the Harbor Subdivision Right-of-Way (ROW). The Freight Track alternative would begin in the LAX area near the proposed Aviation/Century Station of the Crenshaw/LAX Line and continue south along the Harbor Subdivision ROW. Stations plus associated parking and a maintenance yard would be part of each alternative. The LRT alternative will also include traction power substations.

Alternatives

The Metro Harbor Subdivision Transit Corridor Alternatives Analysis Report (2009), prepared for LACMTA, studied a large number of transit alternatives along the entire 26-mile Harbor Subdivision railroad ROW between downtown Los Angeles, LAX and the Ports of Los Angeles and Long Beach. The South Bay Metro Green Line Extension emerged as the highest-priority project from the Alternatives Analysis, and the LACMTA Board of Directors approved the preparation of a Draft EIS/EIR in December 2009.

In addition to a No-Build Alternative, and pursuant to 40 CFR 1502.14, the Draft EIS/EIR will analyze any reasonable alternatives uncovered during scoping. The transit technologies to be evaluated for the Build Alternatives will include Light Rail Transit (LRT), Self-Propelled Rail Car (SPR), and Commuter Rail Transit (CRT) Vehicles. The four alternatives being evaluated include:

No-Build Alternative: The No-Build Alternative would maintain existing transit service through the year 2035. No new transportation infrastructure would be built within the project area aside from projects currently under construction, or funded for construction and operation by 2035. This alternative will include the highway and transit projects in the current constrained element of the LACMTA Long Range Transportation Plan and the 2008 Southern California Association of Governments Regional Transportation Plan. The completion of the Metro Rapid Bus Program would be included as well as possible additional feeder bus networks to serve the region's major activity centers.

Transportation System Management (TSM) Alternative: The DEIS/DEIR will evaluate transportation and environmental effects of modest improvements in the highway and transit systems beyond those in the No-Build Alternative. The TSM Alternative would include low-cost improvements to the No-Build Alternative to reduce delay and enhance mobility. The TSM Alternative would emphasize transportation system upgrades, such as intersection improvements, minor road widening, traffic engineering actions, bus route restructuring, shortened bus headways, expanded use of articulated buses, reserved bus lanes, expanded park-and-ride facilities, express and limited-stop service, signalization improvements, and timed-transfer operations. The key element of the TSM Alternative is a new Metro Rapid bus route that would approximate the diagonal alignment of the Build Alternatives proposed for operation along the Harbor Subdivision ROW. The new Metro Rapid line would stop at similar locations as the Build Alternatives and include enhanced bus stops with benches, shelters, and the appropriate route information and signage. In addition, traffic signal priority would be incorporated to reduce travel times and improve reliability of service. Secondary elements of the TSM Alternative include refining existing bus routes in the study area to accommodate the new Metro Rapid line and to increase efficiencies between Metro and other Municipal Transit Operators.

Light Rail Transit (LRT) Alternative: This alternative would extend existing LRT service south 4.6 miles along the Harbor Subdivision ROW from the current terminus of the Metro Green Line at the Redondo Beach station to the proposed South Bay Regional Intermodal Transit Center—Torrance Hub utilizing LRT vehicle technology and infrastructure. The extension includes four new potential stations at the following locations: Manhattan Beach Boulevard/Inglewood Avenue, the proposed South Bay Regional Intermodal Transit Center at the South Bay Galleria, Hawthorne Boulevard/190th Street, and the proposed South Bay Regional Intermodal Transit Center—Torrance Hub at Crenshaw Boulevard. Service to the LAX area would be provided by the existing Metro Green Line and future Crenshaw/LAX Transit Corridor LRT.

Freight Track Alternative: This alternative would provide new rail service on upgraded Harbor Subdivision railroad tracks for 8.7 miles from the intersection of Century Boulevard and Aviation Boulevard to the proposed South Bay Regional Intermodal Transit Center—Torrance Hub utilizing SPR or CRT vehicle technology and associated infrastructure. This alternative includes up to four new potential stations to be evaluated from the following list of locations: Century Boulevard and Aviation Boulevard, at the existing Metro Green Line Aviation/LAX station, at the existing Metro Green Line Douglas station, at the existing Metro Green Line Redondo Beach station, at the proposed South Bay Regional Intermodal Transit Center, and at the proposed South Bay Regional Intermodal Transit Center—Torrance Hub.

In addition to the alternatives described above, other reasonable transit alternatives identified through the public and agency scoping process will be evaluated for potential inclusion in the EIS.

Probable Effects

The purpose of this EIS process is to study, in a public setting, the effects of the proposed project and its alternatives on the physical, human, and natural environment. The FTA and LACMTA will evaluate all significant environmental, social, and economic impacts of the construction and operation of the proposed project. The probable impacts will be determined as part of the project scoping. Unless further screening illuminates areas of possible impact, resource areas will be limited to those uncovered during scoping. Measures to avoid, minimize, and mitigate adverse impacts will also be identified and evaluated.

FTA Procedures

The regulations implementing NEPA, as well as provisions of the Safe, Accountable, Flexible, Efficient Transportation Equity Act: A Legacy for Users (SAFETEA-LU), call for public involvement in the EIS process. Section 6002 of SAFETEA-LU requires that FTA and LACMTA do the following: (1) Extend an invitation to other Federal and non-Federal agencies and Native American tribes that may have an interest in the proposed project to become “participating agencies;” (2) provide an opportunity for involvement by participating agencies and the public to help define the purpose and need for a proposed project, as well as the range of alternatives for consideration in the EIS; and (3) establish a plan for coordinating public and agency participation in, and comment on, the environmental review process. An invitation to become a participating or cooperating agency, with scoping materials appended, will be extended to other Federal and non-Federal agencies and Native American tribes that may have an interest in the proposed project. It is possible that FTA and LACMTA will not be able to identify all Federal and non-Federal agencies and Native American tribes that may have such an interest. Any Federal or non-Federal agency or Native American tribe interested in the proposed project that does not receive an invitation to become a participating agency should notify at the earliest opportunity the Project Manager identified above under ADDRESSES.

A comprehensive public involvement program and a Coordination Plan for public and interagency involvement will be developed for the project and posted by LACMTA on the project Web site (http://www.metro.net/southbayextension). The public involvement program includes a full range of activities including a public scoping process to define the issues of concern, a project web page on the LACMTA Web site, and outreach to local officials, community and civic groups, and the public. Specific activities or events for involvement will be detailed in the public involvement program.

The EIS will be prepared in accordance with NEPA and its implementing regulations issued by the Council on Environmental Quality (40 CFR parts 1500-1508) and with the FTA/Federal Highway Administration regulations “Environmental Impact and Related Procedures” (23 CFR part 771). In accordance with 23 CFR 771.105(a) and 23 CFR 774, FTA will comply with all Federal environmental laws, regulations, and executive orders applicable to the proposed project during the environmental review process to the maximum extent practicable. These requirements include, but are not limited to, the environmental and public hearing provisions of Federal transit laws (49 U.S.C. 5301(e), 5323(b), and 5324); the project-level air quality conformity regulation of the U.S. Environmental Protection Agency (EPA) (40 CFR part 93); the Section 404(b)(1) guidelines of EPA (40 CFR part 230); the regulation implementing Section 106 of the National Historic Preservation Act (36 CFR part 800); the regulation implementing Section 7 of the Endangered Species Act (50 CFR part 402); section 4(f) of the Department of Transportation Act (23 CFR part 774); and Executive Orders 12898 on environmental justice, 11988 on floodplain management, and 11990 on wetlands.

Issued on: April 9, 2010.
Leslie T. Rogers,
Regional Administrator, Region IX, Federal Transit Administration.

[FR Doc. 2010-8529 Filed 4-13-10; 8:45 am]

BILLING CODE P